DEPARTMENT OF COMMERCE

National Oceanic and Atmospheric Administration

50 CFR Part 300

RIN 0648-AX72

Identification and Certification of Nations Whose Fishing Vessels Are Engaged in Illegal, Unreported, or Unregulated Fishing or Bycatch of Protected Living Marine Resources

AGENCY: National Marine Fisheries Service (NMFS), National Oceanic and Atmospheric Administration (NOAA), Commerce.

ACTION: Notice of public hearing; request for comments.

SUMMARY: NMFS published a proposed rule for developing identification and certification procedures to address illegal, unreported, or unregulated (IUU) fishing activities and bycatch of protected living marine resources (PLMRs) pursuant to the High Seas Driftnet Fishing Moratorium Protection Act (Moratorium Protection Act). This notice is to announce five public hearings and to discuss and collect comments on the issues described in the proposed rule.

DATES: Written comments must be received no later than 5:00 pm Eastern time on May 14, 2009. Public hearings will be held in March, April, and May of 2009. For specific dates and times, see SUPPLEMENTARY INFORMATION.

ADDRESSES: Public hearings will be held in Boston, MA; Silver Spring, MD; La Jolla, CA; Seattle, WA; and Miami, FL. For specific locations, see SUPPLEMENTARY INFORMATION. Written comments on this action, identified by RIN 0648-AV51, may be submitted by any of the following methods:

• Electronic Submissions: Submit all electronic public comments via the Federal eRulemaking Portal http://www.regulations.gov.

• Mail: Laura Cimo, Trade and Marine Stewardship Division, Office of International Affairs, NMFS, 1315 East-West Highway, Silver Spring, MD 20910.

Instructions: All comments received are a part of the public record and will generally be posted to http://www.regulations.gov without change. All personal identifying information (for example, name, address, etc.) voluntarily submitted by the commenter may be publicly accessible. Do not submit confidential business information or otherwise sensitive or protected information. NMFS will accept anonymous comments (enter “N/A” in the required fields, if you wish to remain anonymous). Attachments to electronic comments will be accepted in Microsoft Word, Excel, WordPerfect, or Adobe PDF file formats only.

FOR FURTHER INFORMATION CONTACT: Laura Cimo (ph. 301-713-9090, fax 301-713-9106, e-mail Laura.Cimo@noaa.gov).

SUPPLEMENTARY INFORMATION: On January 14, 2009 (74 FR 2019), NMFS published a proposed rule for developing certification procedures to address IUU fishing activities and PLMR bycatch pursuant to the Moratorium Protection Act. The regulatory measures proposed in this rule encourage nations to cooperate with the United States towards ending IUU fishing and reducing the bycatch of PLMRs.

Under the proposed rule, NMFS is required to identify foreign nations whose fishing vessels are engaged in IUU fishing or fishing activities or practices that result in bycatch of PLMRs in a biennial report to Congress. Once a nation has been identified in the biennial report, a notification and consultation process will be initiated. Subsequent to this process, NMFS will initiate a certification process regarding identified nations that considers whether the government of an identified nation has provided evidence that sufficient corrective action has been taken with respect to the activities described in the report or whether the relevant international fishery management organization has implemented measures that are effective in ending the IUU fishing activity by vessels of that nation. Nations will either receive a positive or a negative certification.

The absence of sufficient action by an identified nation to address IUU fishing and/or PLMR bycatch may lead to the denial of port privileges for vessels of that nation, prohibitions on the importation of certain fish or fish products into the United States from that nation, or other measures.

Identified nations that are not positively certified by the Secretary of Commerce could be subject to prohibitions on the importation of certain fisheries products into the United States and other measures, including limitations on port access, under the High Seas Driftnet Fisheries Enforcement Act (Enforcement Act)(16 U.S.C. 1826a).

Request for Comments

NMFS will hold five public hearings to receive oral and written comments on these proposed actions. Comments received on the proposed rule will assist NMFS in developing a final rule.

Dates, Times, and Locations

The public hearings will be held as follows:

1. Monday, March 16, 2009, 9:00-11:00 a.m., Boston Convention & Exhibition Center, 415 Summer Street, meeting room 203, Boston, MA 02210; phone 617-954-2000.

2. Monday, April 6, 2009, 6:30-8:30 p.m., Hilton Hotel, 8727 Colesville Road, Lincoln Ballroom, Silver Spring, MD 20910; phone 301-589-5200.

3. Monday, April 13, 2009, 4:00-6:00 p.m., NMFS Southwest Fisheries Science Center, 3333 N. Torrey Pines Court, meeting room 370, La Jolla, CA 92037; phone 858-546-7000.

4. Tuesday, April 14, 2009, 4:00-6:00 p.m., NMFS Northwest Fisheries Science Center, 2725 Montlake Boulevard East, Auditorium, Seattle, WA 98112; phone 206-860-3200. Proof of identification will be required for entry.

5. Tuesday, May 12, 2009, 6:30-8:00 p.m., Miami Airport Marriott, 1201 NW LeJeune Road, Caribbean Room, Miami, FL 33126; phone 305-649-5000.

Special Accommodations

The sessions are physically accessible to people with disabilities. Requests for sign language interpretation or other auxiliary aids should be directed to Laura Cimo (see FOR FURTHER INFORMATION CONTACT) at least 7 days prior to the session.

Dated: February 25, 2009.
Rebecca J. Lent,
Director, Office of International Affairs, National Marine Fisheries Service.

[FR Doc. E9-4478 Filed 3-2-09; 8:45 am]

BILLING CODE 3510-22-S